DEPARTMENT OF HEALTH AND HUMAN SERVICES

National Institutes of Health

Center for Scientific Review; Amended Notice of Meeting

Notice is hereby given of a change in the meeting of the Biomedical Computing and Health Informatics Study Section, October 2, 2009, 3 p.m. to October 2, 2009, 6 p.m., Bethesda Marriott, 5151 Pooks Hill Road, Bethesda, MD 20814 which was published in the Federal Register on August 13, 2009, 74 FR 40823-40824.

The meeting will be held October 2, 2009, from 8 a.m. to 5 p.m. at the Bethesda Marriott Suites, 6711 Democracy Boulevard, Bethesda, MD 20817. The meeting is closed to the public.

Dated: August 28, 2009.
Jennifer Spaeth,
Director, Office of Federal Advisory Committee Policy.

[FR Doc. E9-21777 Filed 9-10-09; 8:45 am]

BILLING CODE 4140-01-M